DEPARTMENT OF DEFENSE

Department of the Army

Notice of Availability of the Fort Bliss, Texas and New Mexico, Mission Master Plan Supplemental Programmatic Environmental Impact Statement

Correction

In notice document 06-8667 beginning on page 60698 in the issue of Monday, October 16, 2006, make the following correction:

On page 60699, in the first column, under the heading DATES, “Forest Bliss” should read “Fort Bliss”.

[FR Doc. C6-8667 Filed 10-20-06; 8:45 am]

BILLING CODE 1505-01-D

SECURITIES AND EXCHANGE COMMISSION

[Release No. 34-54138; File No. SR-Phix-2006-35]

Self-Regulatory Organizations; Philadelphia Stock Exchange, Inc.; Notice of Filing and Immediate Effectiveness of Proposed Rule Change Relating to a System Change to the Options Floor Broker Management System

Correction

In notice document E6-11390 beginning on page 41064 in the issue of Wednesday, July 19, 2006, make the following correction:

On page 41066 insert footnote 16 at the bottom of the page to read as follows:

“¹⁶ 17 CFR 200.30-3(a)(12)”

[FR Doc. Z6-11390 Filed 10-20-06; 8:45 am]

BILLING CODE 1505-01-D